DEPARTMENT OF HEALTH AND HUMAN SERVICES

Indian Health Service

Cooperative Agreements for the Office of Direct Service and Contracting Tribes Under the National Indian Health Outreach and Education Program

Announcement Type: New.

Funding Announcement Number: HHS-2012-IHS-NIHOE-0002.

Catalog of Federal Domestic Assistance Number: 93.933.

Key Dates

Application Deadline Date: August 2, 2012.

Review Date: August 15, 2012.

Earliest Anticipated Start Date: September 16, 2012.

I. Funding Opportunity Description

Statutory Authority

The Indian Health Service (IHS) is accepting applications for two limited competition cooperative agreements for the Office of Direct Service and Contracting Tribes under the National Indian Health Outreach and Education (NIHOE) program: the Behavioral Health—Methamphetamine and Suicide Prevention Intervention (MSPI) outreach and education award and the Human Immunodeficiency Virus/Acquired Immune Deficiency Syndrome (HIV/AIDS) outreach and education award. The Behavioral Health—MSPI outreach and education award is funded by IHS and is authorized under the Snyder Act, codified at 25 U.S.C. 13; the Transfer Act, codified at 42 U.S.C. 2001; the Department of the Interior, Environment, and Related Agencies Appropriations Act, 2010, Public Law 111-88; and the Consolidated Appropriations Act, 2012, Public Law 112-74. The HIV/AIDS outreach and education award is funded by the Office of the Secretary (OS), Department of Health and Human Services (HHS). Funding for the HIV/AIDS award will be provided by OS via an Intra-Departmental Delegation of Authority dated March 30, 2012 to IHS to permit obligation of funding appropriated by the Consolidated Appropriations Act, 2012, Public Law 112-74. Each award is funded through a separate funding stream by each respective agency's appropriations. The awardee is responsible for accounting for each of the two awards separately and must provide two separate financial reports (one for each award), as indicated below. This program is described in the Catalog of Federal Domestic Assistance under 93.933.

Limited Competition Announcement

This is a Limited Competition announcement. The funding levels noted include both direct and indirect costs (IDC). See Section VI. Award Administration Information, 3. Indirect Costs. Applicant must address both projects. Applicants must provide a separate budget for each application. Limited competition refers to a competitive funding opportunity that limits the eligibility to compete to more than one entity but less than all entities.

Limited Competition Justification

Competition for both of the awards included in this announcement is limited to national Indian health care organizations with at least ten years of experience providing education and outreach on a national scale. This limitation ensures that the awardee will have: (1) A national information-sharing infrastructure which will facilitate the timely exchange of information between HHS and Tribes and Tribal organizations on a broad scale; (2) a national perspective on the needs of American Indian/Alaska Native (AI/AN) communities that will ensure that the information developed and disseminated through the projects is appropriate, useful and addresses the most pressing needs of AI/AN communities; and (3) established relationships with Tribes and Tribal organizations that will foster open and honest participation by AI/AN communities. Regional or local organizations will not have the mechanisms in place to conduct communication on a national level, nor will they have an accurate picture of the health care needs facing AI/ANs nationwide. Organizations with less experience will lack the established relationships with Tribes and Tribal organizations throughout the country that will facilitate participation and the open and honest exchange of information between Tribes and HHS. With the limited funds available for these projects, HHS must ensure that the education and outreach efforts described in this announcement reach the widest audience possible in a timely fashion, are appropriately tailored to the needs of AI/AN communities throughout the country, and come from a source that AI/ANs recognize and trust. For these reasons, this is a limited competition announcement.

Background

The NIHOE program carries out health program objectives in the AI/AN community in the interest of improving Indian health care for all 566 Federally-recognized Tribes including Tribal governments operating their own health care delivery systems through Indian Self-Determination and Education Assistance Act (ISDEAA) contracts and compacts with the IHS and Tribes that continue to receive health care directly from the IHS. This program addresses health policy and health programs issues and disseminates educational information to all AI/AN Tribes and villages. The NIHOE MSPI and HIV/AIDS awards require that public forums be held at Tribal educational consumer conferences to disseminate changes and updates in the latest health care information. These awards also require that regional and national meetings be coordinated for information dissemination as well as for the inclusion of planning and technical assistance and health care recommendations on behalf of participating Tribes to ultimately inform IHS and HHS based on Tribal input through a broad based consumer network.

Purpose

The purpose of these cooperative agreements is to further IHS health program objectives in the AI/AN community with expanded outreach and education efforts for the MSPI and HIV/AIDS programs on a national scale in the interest of improving Indian health care. This announcement includes two separate awards, each of which will be awarded as noted below. The purpose of the MSPI award is to further the goals of the national MSPI program. The MSPI is a national demonstration project aimed at addressing the dual problems of methamphetamine use and suicide in Indian country. The MSPI supports the use and development of evidence-based and practice-based models which are culturally appropriate prevention and treatment approaches to methamphetamine abuse and suicide in a community driven context. The six goals of the MSPI are to effectively prevent, reduce or delay the use and/or spread of methamphetamine abuse; build on the foundation of prior methamphetamine and suicide prevention and treatment efforts, in order to support the IHS, Tribes, and Urban Indian health organizations in developing and implementing Tribal and/or culturally appropriate methamphetamine and suicide prevention and early intervention strategies; increase access to methamphetamine and suicide prevention services; improve services for behavioral health issues associated with methamphetamine use and suicide prevention; promote the development of new and promising services that are culturally and community relevant; and demonstrate efficacy and impact. [Note: While the national MSPI program includes outreach to urban Indian organizations, outreach aimed specifically at urban Indian organizations will be addressed in a separate award announcement. However, materials developed by the grantee in the NIHOE MSPI award described in this announcement may be distributed by IHS to urban Indian organizations, at the discretion of the Agency.]

The purpose of the HIV/AIDS award is to further the goals of the national HIV/AIDS program. HIV and AIDS are a critical and growing health issue within the AI/AN population. The IHS National HIV/AIDS Program seeks to avoid complacency and to increase awareness of the impact of HIV/AIDS on AI/ANs. All activities are part of the IHS's implementation plan to meet the three goals of the President's National HIV/AIDS Strategy (NHAS) to: Reduce the number of people who become infected with HIV, increase access to care and optimize health outcomes for people living with HIV, and reduce HIV-related disparities. AI/ANs are ranked third in the nation in the rate of HIV/AIDS diagnosis compared to all other races and ethnicities. This population also faces additional health disparities that contribute significantly to the risk of HIV transmission such as substance abuse and sexually transmitted infections. Amongst AI/AN people, HIV/AIDS exists in both urban and rural populations (and on or near Tribal lands); however, many of those living with HIV are not aware of their status. These statistics, risk factors, and missed opportunities for screening illuminate the need to go beyond raising awareness about HIV and begin active integration of initiatives that will help routinize HIV services. If the status quo is unchanged, prevalence will continue to increase and AI/AN communities may face an irreversible problem. Therefore, the National HIV/AIDS Program is working to change the way HIV is discussed to change and improve the way HIV testing is integrated into health services, and to firmly establish linkages and access to care. The IHS HIV/AIDS Program is implemented and executed via an integrated and comprehensive approach through collaborations across multi-health sectors, both internal and external to the agency. It attempts to encompass all types of service delivery `systems' including IHS/Tribal/Urban (I/T/U) facilities. The IHS HIV/AIDS Program is committed to realizing the goals of the President's NHAS and has bridged the objectives and implementation to the IHS HIV/AIDS Strategic Plan.

II. Award Information

Type of Award

Cooperative Agreements.

Estimated Funds Available

The total amount of funding identified for fiscal year (FY) 2012 is approximately $250,000 to fund two cooperative agreements for one year; $150,000 will be awarded for the Behavioral Health-MSPI award and $100,000 will be awarded for the for HIV/AIDS award.

The awards under this announcement are subject to the availability of funds and performance.

Anticipated Number of Awards

Two awards will be issued under this program announcement. It is the intention of IHS and OS that one entity will receive both awards. OS and IHS will concur on the final decision as to who will receive both awards.

Project Period

The project periods for each award will be for 1 year and will run from September 30, 2012 with completion by September 29, 2013.

Cooperative Agreement

In the Department of Health and Human Services (HHS), a cooperative agreement is administered under the same policies as a grant. The funding agencies (IHS and OS) are required to have substantial programmatic involvement in the projects during the entire award segment. Below is a detailed description of the level of involvement required for both agencies and the grantee. IHS and OS, through IHS, will be responsible for activities listed under section A and the grantee will be responsible for activities listed under section B as stated:

Substantial Involvement Description for Cooperative Agreement

A. IHS Programmatic Involvement

The IHS assigned program official will monitor the overall progress of the awardee's execution of the requirements of the two awards: IHS award and the OS award noted below as well as their adherence to the terms and conditions of the cooperative agreements. This includes providing guidance for required reports, development of tools, and other products, interpreting program findings, and assistance with evaluation and overcoming any slippages encountered. The IHS assigned program official must approve all presentations, electronic content, and other materials, including mass emails, developed by awardee pursuant to these awards and any supplemental awards prior to the presentation or dissemination of such materials to any party.

(1) Behavioral Health—MSPI award:

(1) The IHS assigned program official will work in partnership with the awardee to identify and provide presentation topics on MSPI for the annual IHS Division of Behavioral Health (DBH) Conference; the annual IHS MSPI Conference; National Tribal Advisory Committee meetings; and the DBH Behavioral Health Work Group.

(2) The IHS assigned program official will work in partnership with the awardee to identify MSPI projects in need of technical assistance.

(3) The IHS assigned program official will provide project reports as needed to the awardee for review and to inform about the technical assistance to be provided by the awardee.

(2) HIV/AIDS Award:

IHS staff will be providing support for the HIV/AIDS award as follows:

(a) The IHS assigned program official will work in partnership with the awardee in all decisions involving strategy, hiring of grantee personnel, deployment of resources, release of public information materials, quality assurance, coordination of activities, any training, reports, budget, and evaluation. Collaboration includes data analysis, interpretation of findings, and reporting.

(c) The IHS assigned program official will work closely with OS and all participating IHS health services/programs, as appropriate, to coordinate award activities.

(d) The IHS assigned program official will coordinate the following for OS and the participating IHS program offices and staff:

• Discussion and release of any and all special grant conditions upon fulfillment.

• Monthly scheduled conference calls.

• Appropriate dissemination of required reports to each participating program.

(e) The IHS will, jointly with the awardee, plan and set an agenda for each of the conferences mentioned in this announcement that:

• Shares the training and/or accomplishments.

• Fosters collaboration amongst the participating program offices, agencies, and/or departments.

• Increases visibility for the partnership between the awardee and the IHS and OS.

(f) IHS will provide guidance in addressing deliverables and requirements.

(g) IHS will provide guidance in preparing articles for publication and/or presentations of program successes, lessons learned, and new findings.

(h) IHS will communicate via monthly conference calls, individual or collective site visits, and monthly meetings.

(i) IHS staff will review articles concerning the HHS, OS, and the Agency for accuracy and may, as requested by the awardee, provide relevant articles.

(j) IHS will provide technical assistance to the entity as requested.

(k) IHS staff may, at the request of the entity's board, participate on study groups and may recommend topics for analysis and discussion.

B. Grantee Cooperative Agreement Award Activities

The awardee is responsible for the following in addition to fulfilling all requirements noted for each award component: MSPI and HIV/AIDS.

(1) To succinctly and independently address the requirements for each of the two awards listed below: Behavioral Health—MSPI and HIV/AIDS.

(2) To facilitate a forum or forums at which concerns can be heard that are representative of all Tribal governments in the area of health care policy analysis and program development for each of the two components listed above.

(3) To assure that health care outreach and education is based on Tribal input through a broad-based consumer network involving the Area Indian health boards or health board representatives from each of the twelve IHS Areas.

(4) To establish relationships with other national Indian organizations, with professional groups, and with Federal, State, and local entities supportive of AI/AN health programs.

(5) To improve and expand access for AI/AN Tribal governments to all available programs within the HHS.

(6) To disseminate timely health care information to Tribal governments, AI/AN health boards, other national Indian organizations, professional groups, Federal, State, and local entities.

(7) To provide periodic dissemination of health care information, including publication of a newsletter four times a year that features articles on MSPI and HIV/AIDS health promotion/disease/behavioral health prevention activities and models of best or promising practices, health policy, and funding information relevant to AI/AN, etc.

The following schedule of deliverables outlines the requirements necessary to effectuate timely and effective support services to Tribal MSPI projects:

Summary of Tasks To Be Performed

MSPI:

• The awardee shall provide culturally competent educational and technical assistance related to the prevention and treatment of methamphetamine addiction and suicide to Tribal MSPI projects at national meetings and through conference calls. The awardee shall attend designated national meetings and provide educational workshops and general technical assistance specific to MSPI Tribal projects using funding associated with this award. Additional funding for travel is not authorized. Meeting attendance shall include at minimum: The annual IHS DBH Behavioral Health Conference; the annual IHS MSPI Conference; National Tribal Advisory Committee meetings; and the DBH Behavioral Health Work Group.

• The awardee shall provide workshops on topics of particular importance to Tribal MSPI projects at the annual DBH Behavioral Health Conference. Topics will be discussed prior to the meeting and will focus on the needs of Tribal MSPI projects; topics will be subject to approval from the IHS assigned program official. Topics should include youth services, youth methamphetamine use and suicide prevention, Tribal promising practices, etc.

• The awardee shall also provide relevant and timely evidence-based and practice-based information for Tribal MSPI programs.

• The awardee shall attend and conduct workshops and/or presentations at the annual DBH MSPI Conference on evidence-based and practice-based practices effective in preventing suicide and methamphetamine use in Indian country (to be agreed upon by awardee and the IHS assigned program official).

• The awardee shall conduct workshops and/or presentations including, but not limited to, challenges, potential solutions, and successes in the form of promising practices of Tribal MSPI projects at one national conference (venue and content of presentations to be agreed upon by the awardee and the IHS assigned program official).

• The awardee shall provide in-person Tribal MSPI program updates, focusing on practice-based and promising practices at face-to-face meetings of the DBH National Tribal Advisory Committee and the DBH Behavioral Health Work Group.

• The awardee shall develop, maintain, and disseminate information regarding MSPI with a special focus on the relevance to Tribal communities, working in consultation with the IHS assigned program official in determining the information most useful to Tribal MSPI projects.

• The awardee shall provide comprehensive information on MSPI prevention programs, curricula, findings, and strategies to all Tribal MSPI programs, and:

• Present the information at conference and meeting booths as described above.

• Post and maintain methamphetamine and suicide prevention-related information on its organizational Web site, the MSPI portal and otherwise make materials accessible to Tribal MSPI projects.

• Develop a comprehensive list of evidence-based and practice-based programs for use by Tribal MSPI projects.

• Coordinate with DBH staff and other Federal agencies to develop and disseminate promotional materials geared toward positive messaging to Tribal communities who are addressing suicide and methamphetamine issues.

• Provide and update monthly promotional materials on Web sites for access by Tribal MSPI projects.

• The awardee shall, in collaboration with the IHS assigned program official, provide expert guidance in the areas of practice-based and evidence-based practice implementation and culturally-appropriate traditional practices regarding methamphetamine and suicide prevention with a special focus on Indian youth. The awardee shall provide to the IHS assigned program official written documentation of the assistance provided to the projects.

• The awardee shall provide one-on-one technical assistance and progress report review to 25 percent of MSPI projects, identified by the IHS assigned program official as having program implementation issues (i.e. program development and administration issues, implementing practice-based practices/evidence-based practices/culturally relevant traditional methods issues, or program marketing challenges).

• The technical assistance provided by the awardee shall consist of email and phone conversations with the MSPI project staff, expert guidance for specific implementation concerns, and work with the MSPI project to identify challenges and solutions, etc. The awardee shall develop an MSPI orientation guide for tribal programs including information identified by the DBH MSPI Project Officer Team (i.e. MSPI requirements, programmatic guidance, resources relating to methamphetamine and suicide, etc.).

• The awardee shall participate in at least 90 percent of the MSPI Area conference calls facilitated by the IHS assigned program official. The awardee must be included on the agenda and provide presentations on specific areas of interest identified by the Tribal MSPI programs/IHS assigned program official. PowerPoint slides will be approved prior to the presentation and will be made available on the awardee's organizational Web site and the MSPI portal.

• The awardee shall identify and provide education, assistance, and recommendations to MSPI projects regarding one special population per year for the life of the award (e.g., youth; elderly; lesbian, gay, bisexual and transgender; disabled, etc.).

• The awardee shall provide semi-annual reports documenting and describing progress and accomplishment of the activities specified above.

• The awardee shall attend bi-weekly, regularly scheduled, in-person and conference call meetings with the IHS assigned program official team to discuss the awardee's services and MSPI related issues. The awardee must provide meeting minutes that highlight the awardee's specific involvement and participation.

• The awardee shall provide expert guidance to the IHS assigned program official specifically regarding Tribal programs.

• The awardee shall help the IHS assigned program official identify challenges faced by participating Tribal communities and assist in developing solutions.

• The awardee shall provide a semi-annual and annual progress report to IHS, attaching any necessary documentation to adequately document accomplishments.

• The awardee shall obtain approval from the IHS assigned program official of all presentations, electronic content, and other materials, including mass emails, developed by awardee pursuant to this awards and any supplemental awards prior to the presentation or dissemination of such materials to any party, allowing for a reasonable amount of time for IHS review.

Deliverables:

• Evidence of workshops and/or presentations provided at the:

(a) Annual IHS Behavioral Health Conference;

(b) Annual MSPI Conference;

(c) National Tribal Advisory Committee meeting(s); and

(d) IHS Behavioral Health Work Group meetings.

(PowerPoint slides in electronic form and one hard copy are to be submitted to the program official and the IHS assigned program official as required).

• Copies of educational and practice-based information provided to Tribal MSPI programs.

• Copies of all promotional and educational materials provided to Tribal MSPI programs and other projects (electronic form and one hard copy).

• Evidence of posting of MSPI-related information on organizational Web sites.

• Documentation of dissemination of culturally-informed promotional materials geared toward positive messaging to Tribal communities.

• Finalized list of evidence-based and practice-based programs for use by Tribal MSPI projects.

• Evidence of one-on-one technical assistance to projects identified as having program implementation issues (meeting minutes, brief report including at a minimum, the description of the problem, resources provided and action plan).

• Completed programmatic reviews of semi and annual progress reports of 25 percent of the Tribal MSPI projects, in order to identify programs that require technical assistance. [Note: This review is not to replace IHS review of MSPI programs. The programmatic reviews to be conducted by grantee are secondary reviews intended solely to identify programs in need of technical assistance.]

• Completed orientation guide to be submitted to the IHS assigned program official.

• Participation on no less than 90 percent of the MSPI Area conference calls facilitated by the IHS assigned program official, evidenced by meeting agenda and minutes.

• Attendance at regularly scheduled meetings between awardee and the IHS assigned program official, evidenced by meeting minutes which highlight the awardee's specific involvement and participation.

• Semi-annual and annual progress reports to DBH, due no later than 30 days after the reporting cycle, attaching any necessary documentation. For example: meeting minutes, correspondence with Tribal programs, samples of all written materials developed including brochures, news articles, videos, radio and television ads to adequately document accomplishments.

HIV/AIDS

In alignment with the above program and independent from MSPI activities (both via fiscal resources and programmatic implementation), the awardee shall:

• Disseminate existing HIV/AIDS messages to AI/AN audiences in a format designed to solicit, collect, and report on community-level feedback and generate discussion regarding the disease and its prevention. This may include electronic and emerging means of communication. At least four distinct audiences (such as women, young people, etc.) will be addressed and engaged. Preference will be given to reaching audiences with the highest HIV burden or potential increases as supported by the NHAS.

• Disseminate existing IHS HIV/AIDS program and other HIV/AIDS training materials to educators, health care providers, and other key audiences. Collect and report on relevant evaluation criteria, including impacts on underlying knowledge, attitudes, or beliefs about HIV acquisition, testing, or treatment.

• Design and launch an HIV/AIDS technical assistance and activity support program. Engage in documented partnerships with AI/AN communities to expand their capacity relevant to HIV/AIDS education and prevention efforts. Local activity support may include subawards of resources and distribution of incentives to qualified AI/AN-serving community organizations increasing HIV/AIDS education and prevention in their populations. Subaward eligibility standards and management controls will be proposed by the awardee and will be subject to IHS approval. These activities must be conducted in accordance with federal grant policies and procedures. Awardee will collect and maintain relevant evaluation materials and generate reports that highlight progress towards the President's NHAS goals on the community level and that collect best practices for dissemination to other communities.

• Contribute technical expertise to the IHS HIV/AIDS program and develop formal written documents responding to information requests from the public regarding HIV/AIDS initiatives.

• Develop and launch anti-stigma messaging for at least one audience, coordinated with other local activities to: increase HIV screening; increase access to services, or increase positive role modeling for people living with, or at risk of, acquiring HIV/AIDS.

• Support and document issue-specific discussions with Tribal Leaders as appropriate to address effective prevention interventions for AI/AN populations as noted in the President's NHAS.

• Obtain approval from the IHS assigned program official of all presentations, electronic content, and other materials, including mass emails, developed by awardee pursuant to this award and any supplemental awards prior to the presentation or dissemination of such materials to any party, allowing for a reasonable amount of time for IHS review.

III. Eligibility Information

1. Eligibility

Eligible applicants include 501(c)(3) non-profit entities who meet the following criteria.

Eligible applicants that can apply for this funding opportunity are National Indian Organizations.

The National Indian Organization must have the infrastructure in place to accomplish the work under the proposed program.

Eligible entities must have demonstrated expertise in the following areas:

• Representing all Tribal governments and providing a variety of services to Tribes, Area health boards, Tribal organizations, and Federal Agencies, and playing a major role in focusing attention on Indian health care needs, resulting in improved health outcomes for AI/ANs.

• Promotion and support of Indian education, and coordinating efforts to inform AI/AN of Federal decisions that affect Tribal government interests including the improvement of Indian health care.

• National health policy and health programs administration.

• Have a national AI/AN constituency and clearly support critical services and activities within the IHS mission of improving the quality of health care for AI/AN people.

• Portray evidence of their solid support of improved health care in Indian Country.

• Provide evidence of at least ten years of experience providing education and outreach on a national scale.

Note: Please refer to Section IV.2 (Application and Submission Information/Subsection 2, Content and Form of Application Submission) for additional proof of applicant status documents required, such as proof of non-profit status, etc.

2. Cost Sharing or Matching

The Indian Health Service does not require matching funds or cost sharing for grants or cooperative agreements.

3. Other Requirements

If application budgets exceed the highest dollar amount outlined under the “Estimated Funds Available” section within this funding announcement, your application will be considered ineligible and will not be reviewed for further consideration. IHS will not return your application to you. You will be notified by email or certified mail by the Division of Grants Management of this decision.

Applications addressing other projects will be considered ineligible and will be returned to the applicant. Health board resolution must be submitted if applicable.

Proof of Non-Profit Status

Organizations claiming non-profit status must submit proof. A copy of the 501(c)(3) Certificate must be received with your application submission by the deadline due date of July 16, 2012.

Letters of Intent will not be required under this funding opportunity announcement.

Applicants submitting any of the above additional documentation after the initial application submission due date are required to ensure the information was received by the IHS by obtaining documentation confirming delivery (i.e. FedEx tracking, postal return receipt, etc.).

IV. Application and Submission Information

1. Obtaining Application Materials

The application package and detailed instructions for this announcement can be found at http://www.Grants.gov or http://www.ihs.gov/NonMedicalPrograms/gogp/index.cfm?module=gogp_funding

Questions regarding the electronic application process may be directed to Paul Gettys at (301) 443-2114.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single spaced and not exceed 5 pages).

• Project Narrative (must not exceed 20 pages).

○ Background information on the organization.

○ Proposed scope of work, objectives, and activities that provide a description of what will be accomplished, including a one-page Timeframe Chart.

• Tribal Resolution or Tribal Letter of Support (Tribal Organizations only).

• Letter of Support from Organization's Board of Directors.

• 501(c)(3) Certificate (if applicable)

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required) in order to receive IDC.

• Organizational Chart (optional).

• Documentation of current OMB A-133 required Financial Audit (if applicable). Acceptable forms of documentation include:

○ Email confirmation from Federal Audit Clearinghouse (FAC) that audits were submitted; or

○ Face sheets from audit reports. These can be found on the FAC Web site: http://harvester.census.gov/sac/dissem/accessoptions.html?submit=Go+To+Database.

Public Policy Requirements

All Federal-wide public policies apply to IHS grants with exception of the Discrimination policy.

Requirements for Project and Budget Narratives

A. Project Narrative: This narrative should be a separate Word document that is no longer than 20 pages and must: Be single-spaced, be type written, have consecutively numbered pages, use black type not smaller than 12 characters per one inch, and be printed on one side only of standard size 8½″ x 11″ paper.

Be sure to succinctly answer all questions listed under the evaluation criteria (refer to Section V.1, Evaluation criteria in this announcement) and place all responses and required information in the correct section (noted below), or they will not be considered or scored. These narratives will assist the ORC in becoming more familiar with the grantee's activities and accomplishments prior to this possible grant award. If the narrative exceeds the page limit, only the first 20 pages will be reviewed. The 20-page limit for the narrative does not include the work plan, standard forms, Tribal resolutions, table of contents, budget, budget justifications, narratives, and/or other appendix items.

There are three parts to the narrative: Part A—Program Information; Part B—Program Planning and Evaluation; and Part C—Program Report. See below for additional details about what must be included in the narrative.

Proposals should provide separate narratives and budgets for the two portions of the cooperative agreement: one for HIV and one for MSPI.

Part A: Program Information 3 Pages per Program

Section 1: Needs

Describe how the National Indian Organization has the experience to provide outreach and education efforts on a continuum basis regarding the pertinent changes and updates in health care for each of the two components listed herein: MSPI and HIV/AIDS.

Part B: Program Planning and Evaluation 5 Pages per Program

Section 1: Program Plans

Describe fully and clearly the direction the National Indian Organization plans to address the NIHOE II MSPI and HIV/AIDS requirements, including how the National Indian Organization plans to demonstrate improved health education and outreach services to all 566 Federally-recognized tribes for each of the two components described herein.

Section 2: Program Evaluation

Describe fully and clearly how the outreach and education efforts will impact changes in knowledge and awareness in tribal communities regarding both components. Identify anticipated or expected benefits for the tribal constituency.

Part C: Program Report 2 Pages per Program

Section 1: Describe Major Accomplishments Over the Last 24 Months

Identify and describe significant program achievements associated with the delivery of quality health outreach and education. Provide a comparison of the actual accomplishments to the goals established for the project period for both components, or if applicable, provide justification for the lack of progress.

Section 2: Describe Major Activities Over the Last 24 Months

Identify and summarize recent major health related outreach and education project activities of the work performed for both components during the last project period.

B. Budget Narrative: This narrative must describe the budget requested and match the scope of work described in the project narrative. The budget narrative should not exceed 5 pages.

3. Submission Dates and Times

Applications must be submitted electronically through Grants.gov by 12:00 a.m., midnight Eastern Daylight Time (EDT) on August 2, 2012. Any application received after the application deadline will not be accepted for processing, nor will it be given further consideration for funding. You will be notified by the Division of Grants Management via email or certified mail of this decision.

If technical challenges arise and assistance is required with the electronic application process, contact Grants.gov Customer Support via email to support@grants.gov or at (800) 518-4726. Customer Support is available to address questions 24 hours a day, 7 days a week (except on Federal holidays). If problems persist, contact Paul Gettys, Division of Grants Management (DGM) (Paul.Gettys@ihs.gov) at (301) 443-5204. Please be sure to contact Mr. Gettys at least ten days prior to the application deadline. Please do not contact the DGM until you have received a Grants.gov tracking number. In the event you are not able to obtain a tracking number, call the DGM as soon as possible.

If an applicant needs to submit a paper application instead of submitting electronically via Grants.gov, prior approval must be requested and obtained (see Section IV.6 below for additional information). The waiver must be documented in writing (emails are acceptable), before submitting a paper application. A copy of the written approval must be submitted along with the hardcopy that is mailed to the DGM. Once your waiver request has been approved, you will receive a confirmation of approval and the mailing address to submit your application. Paper applications that are submitted without a waiver from the Acting Director of DGM will not be reviewed or considered further for funding. You will be notified via email or certified email of this decision by the Grants Management Officer of DGM. Paper applications must be received by the DGM no later than 5 p.m., EDT, on the application deadline date. Late applications will not be accepted for processing or considered for funding.

Other Important Due Dates

Proof of Non-Profit Status: Due date August 2, 2012.

4. Intergovernmental Review

Executive Order 12372 requiring intergovernmental review is not applicable to this program.

5. Funding Restrictions

• Pre-award costs are not allowable.

• The available funds are inclusive of direct and appropriate indirect costs.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

Applicants that receive a waiver to submit paper application documents must follow the rules and timelines that are noted below. The applicant must seek assistance at least ten days prior to the application deadline.

Applicants that do not adhere to the timelines for Central Contractor Registry (CCR) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (emails are acceptable) to GrantsPolicy@ihs.gov with a copy to Tammy.Bagley@ihs.gov. Please include a clear justification for the need to deviate from our standard electronic submission process.

• If the waiver is approved, the application should be sent directly to the DGM by the deadline date of August 2, 2012.

• Applicants are strongly encouraged not to wait until the deadline date to begin the application process through Grants.gov as the registration process for CCR and Grants.gov could take up to fifteen working days.

• Please use the optional attachment feature in Grants.gov to attach additional documentation that may be requested by the DGM.

• All applicants must comply with any page limitation requirements described in this Funding Announcement.

• After you electronically submit your application, you will receive an automatic acknowledgment from Grants.gov that contains a Grants.gov tracking number. The DGM will download your application from Grants.gov and provide necessary copies to the appropriate agency officials. Neither the DGM nor the Office of Direct Service and Contracting Tribes will notify applicants that the application has been received.

• Email applications will not be accepted under this announcement.

Dun and Bradstreet (D&B) Data Universal Numbering System (DUNS)

All IHS applicants and grantee organizations are required to obtain a DUNS number and maintain an active registration in the CCR database. The DUNS number is a unique 9-digit identification number provided by D&B which uniquely identifies your entity. The DUNS number is site specific; therefore, each distinct performance site may be assigned a DUNS number. Obtaining a DUNS number is easy, and there is no charge. To obtain a DUNS number, you may access it through http://fedgov.dnb.com/webform, or to expedite the process, call (866) 705-5711.

Effective October 1, 2010, all HHS recipients were asked to start reporting information on subawards, as required by the Federal Funding Accountability and Transparency Act of 2006, as amended (“Transparency Act”).

Accordingly, all IHS grantees must notify potential first-tier subrecipients that no entity may receive a first-tier subaward unless the entity has provided its DUNS number to the prime grantee organization. This requirement ensures the use of a universal identifier to enhance the quality of information available to the public pursuant to the “Transparency Act.”

Central Contractor Registry (CCR)

Organizations that have not registered with CCR will need to obtain a DUNS number first and then access the CCR online registration through the CCR home page at https://www.bpn.gov/ccr/default.aspx (U.S. organizations will also need to provide an Employer Identification Number from the Internal Revenue Service that may take an additional 2-5 weeks to become active). Completing and submitting the registration takes approximately one hour to complete and your CCR registration will take 3-5 business days to process. Registration with the CCR is free of charge. Applicants may register online at https://www.bpn.gov/ccrupdate/NewRegistration.aspx.

Additional information on implementing the Transparency Act, including the specific requirements for DUNS and CCR, can be found on the IHS Grants Management, Grants Policy Web site: http://www.ihs.gov/NonMedicalPrograms/gogp/index.cfm?module=gogp_policy_topics.

V. Application Review Information

The instructions for preparing the application narrative also constitute the evaluation criteria for reviewing and scoring the application. Weights assigned to each section are noted in parentheses. The twenty page narrative should include only the first year of activities. The narrative section should be written in a manner that is clear to outside reviewers unfamiliar with prior related activities of the applicant. It should be well organized, succinct, and contain all information necessary for reviewers to understand the project fully. Points will be assigned to each evaluation criteria adding up to a total of 100 points. A minimum score of 60 points is required for funding. Points are assigned as follows:

1. Evaluation Criteria

Part A: Program Information

Needs (15 points)

Part B: Program Planning and Evaluation

Program Plans (40 points)

Program Evaluation (20 points)

Part C: Program Report (15 points)

Budget Narrative (10 points)

The instructions for preparing the application narrative also constitute the evaluation criteria for reviewing and scoring the application. Weights assigned to each section are noted in parentheses. Points will be assigned to each evaluation criteria adding up to a total of 100 points.

Part A: Program Information:

Project Narrative

A. Abstract—One page summarizing project (narrative).

B. Criteria.

1. Introduction and Need for Assistance (15 points)

(a) Describe the organization's current health, education and technical assistance operations as related to the broad spectrum of health needs of the AI/AN community. Include what programs and services are currently provided (i.e., Federally-funded, State-funded, etc.), and identify any memorandums of agreement with other national, Area or local Indian health board organizations. This could also include HHS' agencies that rely on the applicant as the primary gateway organization that is capable of providing the dissemination of health information. Include information regarding technologies currently used (i.e., hardware, software, services, Web sites, etc.), and identify the source(s) of technical support for those technologies (i.e., in-house staff, contractors, vendors, etc.). Include information regarding how long the applicant has been operating and its length of association/partnerships with Area health boards, etc. [historical collaboration].

(b) Describe the organization's current technical assistance ability. Include what programs and services are currently provided, programs and services projected to be provided, and describe any memorandums of agreement with other national Indian organizations that deem the applicant as the primary source of health policy information for AI/ANs, or any other memorandums of agreement with other Area Indian health boards, etc.

(c) Describe the population to be served by the proposed projects. Are they hard to reach? Are there barriers? Include a description of the number of Tribes who currently benefit from the technical assistance provided by the applicant.

(d) Describe the geographic location of the proposed project including any geographic barriers experienced by the recipients of the technical assistance to the health care information provided.

(e) Identify all previous IHS cooperative agreement awards received, dates of funding and summaries of the projects' accomplishments. State how previous cooperative agreement funds facilitated education, training and technical assistance nationwide for AI/ANs. (Copies of reports will not be accepted.)

(f) Describe collaborative and supportive efforts with national, Area, and local Indian health boards.

(g) Explain the need/reason for your proposed projects by identifying specific gaps or weaknesses in services or infrastructure that will be addressed by the proposed projects. Explain how these gaps/weaknesses were discovered. If the proposed projects include information technology (i.e., hardware, software, etc.), provide further information regarding measures taken or to be taken that ensure the proposed projects will not create other gaps in services or infrastructure (i.e., IHS interface capability, Government Performance Results Act reporting requirements, contract reporting requirements, information technology compatibility, etc.), if applicable.

(h) Describe the effect of the proposed project on current programs (i.e., Federally-funded, State funded, etc.) and, if applicable, on current equipment (i.e., hardware, software, services, etc.). Include the effect of the proposed projects on planned/anticipated programs and/or equipment.

(i) Describe how the projects relate to the purpose of the cooperative agreement by addressing the following: Identify how the proposed project will address national Indian health care outreach and education regarding various health data listed, e.g. MSPI and HIV and AIDS, dissemination, training, and technical assistance, etc.

Part B: Program Planning And Evaluation:

Section 1: Program Plans:

2. Project Objective(s), Workplan and Consultants (40 points)

(a) Identify the proposed project objective(s) for each of the two projects, as applicable, addressing the following:

• Measurable and (if applicable) quantifiable.

• Results oriented.

• Time-limited.

Example: Issue four quarterly newsletters, provide alerts and quantify number of contacts with Tribes.

Goals must be clear and concise.

(b) Address how the proposed projects will result in change or improvement in program operations or processes for each proposed project objective for the selected projects. Also address what tangible products, if any, are expected from the project, (i.e. legislative analysis, policy analysis, Annual Consumer Conference, mid-year conferences, summits, etc.).

(c) Address the extent to which the proposed projects will provide, improve, or expand services that address the need(s) of the target population. Include a strategic plan and business plan currently in place that are being used that will include the expanded services. Include the plan(s) with the application submission.

(d) Submit a work plan in the Appendix that:

• Provides the action steps on a timeline for accomplishing each of the projects' proposed objective(s).

• Identifies who will perform the action steps.

• Identifies who will supervise the action steps taken.

• Identifies what tangible products will be produced during and at the end of the proposed project objective(s).

• Identifies who will accept and/or approve work products during the duration of the proposed projects and at the end of the proposed projects.

• Identifies any training that will take place during the proposed projects and who will be attending the training.

• Identifies evaluation activities proposed in the work plans.

(e) If consultants or contractors will be used during the proposed project, please include the following information in their scope of work (or note if consultants/contractors will not be used):

• Educational requirements.

• Desired qualifications and work experience.

• Expected work products to be delivered on a timeline.

If a potential consultant/contractor has already been identified, please include a résumé in the Appendix.

(f) Describe what updates will be required for the continued success of the proposed project. Include when these updates are anticipated and where funds will come from to conduct the update and/or maintenance.

Section 2: Program Evaluation:

Project Evaluation (20 points)

Each proposed objective requires an evaluation component to assess its progress and ensure its completion. Also, include the evaluation activities in the work plan.

Describe the proposed plan to evaluate both outcomes and process. Outcome evaluation relates to the results identified in the objectives, and process evaluation relates to the work plan and activities of the project.

(a) For outcome evaluation, describe:

• What will the criteria be for determining success of each objective?

• What data will be collected to determine whether the objective was met?

• At what intervals will data be collected?

• Who will collect the data and their qualifications?

• How will the data be analyzed?

• How will the results be used?

(b) For process evaluation, describe:

• How will the projects be monitored and assessed for potential problems and needed quality improvements?

• Who will be responsible for monitoring and managing project improvements based on results of ongoing process improvements and what are their qualifications?

• How will ongoing monitoring be used to improve the projects?

• Describe any products, such as manuals or policies, that might be developed and how they might lend themselves to replication by others.

• How will the organization document what is learned throughout the projects' grant periods?

(c) Describe any evaluation efforts planned after the grant period has ended.

(d) Describe the ultimate benefit to the AI/AN population served by the applicant organization that will be derived from these projects.

Part C: Program Report

Section 1: Describe Major Accomplishments Over the Last 24 Months

Section 2: Describe Major Activities Over the Last 24 Months

Organizational Capabilities and Qualifications (15 points)

This section outlines the broader capacity of the organization to complete the project outlined in the work plan. It includes the identification of personnel responsible for completing tasks and the chain of responsibility for successful completion of the projects outlined in the work plans.

(a) Describe the organizational structure of the organization beyond health care activities, if applicable.

(b) Describe the ability of the organization to manage the proposed projects. Include information regarding similarly sized projects in scope and financial assistance, as well as other cooperative agreements/grants and projects successfully completed.

(c) Describe what equipment (i.e., fax machine, phone, computer, etc.) and facility space (i.e., office space) will be available for use during the proposed projects. Include information about any equipment not currently available that will be purchased through the cooperative agreement/grant.

(d) List key personnel who will work on the projects. Include title used in the work plans. In the Appendix, include position descriptions and résumés for all key personnel. Position descriptions should clearly describe each position and duties, indicating desired qualifications and experience requirements related to the proposed project. Résumés must indicate that the proposed staff member is qualified to carry out the proposed project activities. If a position is to be filled, indicate that information on the proposed position description.

(e) If personnel are to be only partially funded by this cooperative agreement, indicate the percentage of time to be allocated to this project and identify the resources used to fund the remainder of the individual's salary.

Budget Narrative:

Categorical Budget and Budget Justification (10 points)

This section should provide a clear estimate of the program costs and justification for expenses for the entire cooperative agreement period for each award. The budgets and budget justifications should be consistent with the tasks identified in the work plans. Because each of the two awards included in this announcement are funded through separate funding streams, the applicant must provide a separate budget and budget narrative for each of the two components and must account for costs separately.

(a) Provide a categorical budget for each of the 12-month budget periods requested for each of the two projects.

(b) If IDC are claimed, indicate and apply the current negotiated rate to the budget. Include a copy of the rate agreement in the Appendix. See Section VI. Award Administration Information, 3. Indirect Costs.

(c) Provide a narrative justification explaining why each line item is necessary/relevant to the proposed project. Include sufficient costs and other details to facilitate the determination of cost allowability (i.e., equipment specifications, etc.).

Appendix Items

• Work plan, logic model and/or time line for proposed objectives.

• Position descriptions for key staff.

• Résumés of key staff that reflect current duties.

• Consultant or contractor proposed scope of work and letter of commitment (if applicable).

• Current Indirect Cost Agreement.

• Organizational chart(s) highlighting proposed project staff and their supervisors as well as other key contacts within the organization and key community contacts.

• Map of area to benefit project identifying where target population resides and project location(s). Include trails, parks, schools, bike paths and other such applicable information.

• Additional documents to support narrative (i.e. data tables, key news articles, etc.).

1. Review and Selection

Each application will be prescreened by the DGM staff for eligibility and completeness as outlined in the funding announcement. Incomplete applications and applications that are non-responsive to the eligibility criteria will not be referred to the Objective Review Committee (ORC). Applicants will be notified by DGM, via email or letter, to outline minor missing components (i.e., signature on the SF-424, audit documentation, key contact form) needed for an otherwise complete application. All missing documents must be sent to DGM on or before the due date listed in the email of notification of missing documents required.

To obtain a minimum score for funding by the Objective Review Committee, applicants must address all program requirements and provide all required documentation. Applicants that receive less than a minimum score will be considered to be “Disapproved” and will be informed via email or regular mail by the IHS Program Office of their application's deficiencies. A summary statement outlining the strengths and weaknesses of the application will be provided to each disapproved applicant. The summary statement will be sent to the Authorized Organizational Representative (AOR) that is identified on the face page (SF-424), of the application within 60 days of the completion of the Objective Review.

VI. Award Administration Information

1. Award Notices

The Notice of Award (NoA) is a legally binding document signed by the Grants Management Officer and serves as the official notification of the grant award. The (NoA) will be initiated by the DGM and will be mailed via postal mail or emailed to each entity that is approved for funding under this announcement. The NoA is the authorizing document for which funds are dispersed to the approved entities and reflects the amount of Federal funds awarded, the purpose of the grant, the terms and conditions of the award, the effective date of the award, and the budget/project period.

Disapproved Applicants

Applicants who received a score less than the recommended funding level for approval, 60, and were deemed to be disapproved by the Objective Review Committee, will receive an Executive Summary Statement from the IHS Program Office within 30 days of the conclusion of the ORC outlining the weaknesses and strengths of their application submitted. The IHS program office will also provide additional contact information as needed to address questions and concerns as well as provide technical assistance if desired.

Approved but Unfunded Applicants

Approved but unfunded applicants that met the minimum scoring range and were deemed by the ORC to be “Approved”, but were not funded due to lack of funding, will have their applications held by DGM for a period of 1 year. If additional funding becomes available during the course of FY 2012, the approved application maybe re-considered by the awarding program office for possible funding. You will also receive an Executive Summary Statement from the IHS Program Office within 30 days of the conclusion of the ORC.

Note: Any correspondence other than the official NoA signed by an IHS Grants Management Official announcing to the Project Director that an award has been made to their organization is not an authorization to implement their program on behalf of IHS.

2. Administrative Requirements

Cooperative agreements are administered in accordance with the following regulations, policies, and OMB cost principles:

A. The criteria as outlined in this Program Announcement.

B. Administrative Regulations for Grants:

• 45 CFR, Part 92, Uniform Administrative requirements for Grants and Cooperative Agreements to State, Local and Tribal Governments.

• 45 CFR, Part 74, Uniform Administrative Requirements for Awards and Subawards to Institutions of Higher Education, Hospitals, and other Non-profit Organizations.

C. Grants Policy:

• HHS Grants Policy Statement, Revised 01/07.

D. Cost Principles:

• Title 2: Grant and Agreements, Part 225—Cost Principles for State, Local, and Indian Tribal Governments (OMB Circular A-87).

• Title 2: Grant and Agreements, Part 230—Cost Principles for Non-Profit Organizations (OMB Circular A-122).

E. Audit Requirements:

• OMB Circular A-133, Audits of States, Local Governments, and Non-profit Organizations.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) http://rates.psc.gov/and the Department of Interior (National Business Center) http://www.aqd.nbc.gov/services/ICS.aspx. If your organization has questions regarding the indirect cost policy, please call (301) 443-5204 to request assistance.

4. Reporting Requirements

Grantees must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports.

The reporting requirements for this program are noted below.

A. Progress Reports

Separate progress reports are required for each of the two awards included in this announcement. Program progress reports are required annually, within 30 days after the budget period ends. These reports must include a brief comparison of actual accomplishments to the goals established for the period, or, if applicable, provide sound justification for the lack of progress, and other pertinent information as required. Final reports must be submitted within 90 days of expiration of the budget/project period.

B. Financial Reports

Separate financial reports are required for the IHS award and the OS award. The awardee is responsible for accounting for each award separately. Federal Financial Report FFR (SF-425), Cash Transaction Reports are due 30 days after the close of every calendar quarter to the Division of Payment Management, HHS at: http://www.dpm.psc.gov. It is recommended that you also send copies of your FFR (SF-425) reports to your Grants Management Specialist. The awardee must submit two separate reports—one for each award. Failure to submit timely reports may cause a disruption in timely payments to your organization.

Grantees are responsible and accountable for accurate information being reported on all required reports: The Progress Reports and Federal Financial Report.

C. Federal Subaward Reporting System (FSRS)

This award may be subject to the Transparency Act subaward and executive compensation reporting requirements of 2 CFR Part 170.

The Federal Funding Accountability and Transparency Act of 2006, as amended (“Transparency Act”), requires the Office of Management and Budget (OMB) to establish a single searchable database, accessible to the public, with information on financial assistance awards made by Federal agencies. The Transparency Act also includes a requirement for recipients of Federal grants to report information about first-tier subawards and executive compensation under Federal assistance awards.

Effective October 1, 2010 IHS implemented a Term of Award into all IHS Standard Terms and Conditions, NoAs and funding announcements regarding this requirement. This IHS Term of Award is applicable to all IHS grant and cooperative agreements issued on or after October 1, 2010, with a $25,000 subaward obligation dollar threshold met for any specific reporting period. Additionally, all new (discretionary) IHS awards (where the project period is made up of more than one budget period) and where: (1) Project period start date was October 1, 2010 or after and (2) the primary awardee will have a $25,000 subaward obligation dollar threshold during any specific reporting period will be required to conduct address the FSRS reporting. For the full IHS award term implementing this requirement and additional award applicability information, visit the Grants Management Grants Policy Web site at: http://www.ihs.gov/NonMedicalPrograms/gogp/index.cfm?module=gogp_policy_topics.

Telecommunication for the hearing impaired is available at: TTY (301) 443-6394.

VII. Agency Contacts

1. Questions on the programmatic issues may be directed to:

Ms. Roselyn Tso, Acting Director, ODSCT, 801 Thompson Avenue, Suite 220, Rockville, Maryland 20852, Telephone: (301) 443-1104, Fax: (301) 443-4666, Email: Roselyn.Tso@ihs.gov.

2. Questions on grants management and fiscal matters may be directed to:

Mr. Andrew Diggs, DGM, Grants Management Specialist, 801 Thompson Avenue, TMP 360, Rockville, Maryland 20852, Telephone: (301) 443-5204, Fax: (301) 443-9602, Email: Andrew.Diggs@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: June 19, 2012.
Yvette Roubideaux,
Director, Indian Health Service.

[FR Doc. 2012-15643 Filed 6-27-12; 8:45 am]

BILLING CODE 4165-16-P